FEDERAL COMMUNICATIONS COMMISSION

47 CFR Part 73

[MB Docket No. 21-21-921; RM-11891; DA 21-921; FR ID 41251]

Television Broadcasting Services Henderson, Nevada

AGENCY: Federal Communications Commission.

ACTION: Proposed rule.

SUMMARY: The Commission has before it a petition for rulemaking filed by KVVU Broadcasting Corporation (Petitioner), the licensee of KVVU (FOX), channel 9, Henderson, Nevada. The Petitioner requests the substitution of channel 24 for channel 9 in the DTV Table of Allotments.

DATES: Comments must be filed on or before September 3, 2021 and reply comments on or before September 20, 2021.

ADDRESSES: Federal Communications Commission, Office of the Secretary, 45 L Street NE, Washington, DC 20554. In addition to filing comments with the FCC, interested parties should serve counsel for the Petitioner as follows: Christina Burrow, Esq., Cooley LLP, 1299 Pennsylvania Avenue NW, Suite 700, Washington, DC 20004.

FOR FURTHER INFORMATION CONTACT: Joyce Bernstein, Media Bureau, at (202) 418-1647; or Joyce Bernstein, Media Bureau, at Joyce.Bernstein@fcc.gov.

SUPPLEMENTARY INFORMATION: In support of its channel substitution request, the Petitioner states that the Commission has recognized that VHF channels have certain characteristics that pose challenges for their use in providing digital television service, including propagation characteristics that allow undesired signals and noise to be receivable at relatively far distances and nearby electrical devices to cause interference. According to the Petitioner, it has received numerous complaints of poor or no reception from viewers, and explains the importance of a strong over-the-air signal in the Las Vegas area during emergencies, when, it states, cable and satellite service may go out of operation. It also explained that improving KVVU's signal would serve the public interest because more than 25 percent of viewers in the Las Vegas area receive television broadcast signals over-the-air. Finally, the Petitioner recognized that the channel 24 noise limited contour would not fully encompass the existing channel 9 contour, but stated that only 152 persons in the lost coverage area would lose service from KVVU-TV, a number the Commission considers de minimis, and no viewers would lose access to their first or second over-the-air television service. The Petitioner also performed an analysis using the Commission's TVStudy software, which indicated that Petitioner's proposal would result in no more than 0.5 percent new interference to any surrounding co-channel or adjacent-channel facility.

This is a synopsis of the Commission's Notice of Proposed Rulemaking, MB Docket No. 21-921; RM-11891; DA 21-921, adopted July 27, 2021, and released July 28, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

§ 73.622 [Amended]

2. In § 73.622 in paragraph (i), amend the Post-Transition Table of DTV Allotments under Nevada by revising the entry for Henderson to read as follows:

§ 73.622 Digital television table of allotments.

* * * * *

(i) * * *

Community | Channel No.
* * * * *
NEVADA
* * * * *
Henderson | 24
* * * * *

[FR Doc. 2021-16589 Filed 8-3-21; 8:45 am]

BILLING CODE 6712-01-P